DEPARTMENT OF AGRICULTURE

National Institute of Food and Agriculture

Solicitation of Input From Stakeholders Regarding Assessments Focused on Improving Food Aid and Providing Safe Water

AGENCY: National Institute of Food and Agriculture, USDA.

ACTION: Notice; request for public comment.

SUMMARY: The National Institute of Food and Agriculture (NIFA), formerly known as the Cooperative State Research, Education, and Extension Service (CSREES) requests input from the public regarding (1) the assessment of methods and tools used by non-governmental organizations and international agencies to measure, characterize and describe nutritional gaps among populations served by U.S. humanitarian food assistance programs, including recommendations on how to improve such programs in the field at the lowest possible cost, and (2) the assessment of the most cost-effective technologies for the purification and supply of safe water which could be implemented in the field to benefit highly vulnerable populations, including recommendations on the most cost-effective and commercially available systems that require priority research assistance.

DATES: All comments must be received by close of business (5 p.m. EST) September 3, 2010, to be considered.

ADDRESSES: You may submit comments, identified by [2010-0003] by any of the following methods to the NIFA Docket Clerk; and electronic submissions are preferred:

Federal eRulemaking Portal: http://www.regulations.gov. Follow the instructions for submitting comments.

E-mail: FANEP@nifa.usda.gov. Include [2010-0003] in the subject line of the message.

Fax: (202) 690-2355.

Hand Delivery/Courier: FANEP; Science and Education Resources Development (SERD) Unit, National Institute of Food and Agriculture, U.S. Department of Agriculture, Room 3322 Waterfront Centre, 800 9th Street, SW., Washington, DC 20024.

Mailing Address: FANEP; Science and Education Resources Development (SERD) Unit, National Institute of Food and Agriculture, U.S. Department of Agriculture, 1400 Independence Avenue, SW., Stop 2203, Washington, DC 20250-2203.

Instructions: All submissions received must include the agency name and the [2010-0003] for this rulemaking. A summary of the results obtained from the responses to this request for information will be available to the public on the Web site http://www.regulations.gov, and may include any personal information provided.

FOR FURTHER INFORMATION CONTACT: Dr. Edwin Lewis, International Program Leader, National Institute of Food and Agriculture, U.S. Department of Agriculture, 1400 Independence Avenue, SW., Stop 2203, Washington, DC 20250-2203, Phone: (202) 720-3801.

SUPPLEMENTARY INFORMATION:

Background

The National Institute of Food and Agriculture (NIFA), established in Section 7511 of the Food, Conservation, and Energy Act of 2008 (Pub. L. 110-246), serves the nation's needs by supporting exemplary research, education, and extension that address many challenges facing the nation. NIFA works with scientists at universities and colleges throughout the United States and around the world to find innovative solutions to critical issues facing rural communities and American consumers including global food security and hunger, climate change, sustainable energy, childhood obesity and food safety.

Section 724 of Title VII, General Provisions, in the Agriculture, Rural Development, Food and Drug Administration, and Related Agencies Programs Appropriations Act, 2010 (Pub. L. 111-80) provided $4 million to the Secretary of Agriculture to award grant(s) to develop and field test new food products designed to improve the nutritional delivery of humanitarian food assistance provided through the McGovern-Dole (section 3107 of the Farm Security and Rural Investment Act of 2002 (7 U.S.C. 1736o-1)) and the Food for Peace title II (7 U.S.C. 1691 et seq.) programs.

Senate Report 111-39, which accompanies Pub. L. 111-80, states in Title I, Agricultural Programs, Production, Processing, and Marketing, Office of the Secretary:

The Committee is aware of significant advances in food science and technology that should be utilized to cost-effectively improve products beneficial for use in food assistance programs and the Secretary is directed, acting through the Undersecretary for Research, Education, and Economics, to carry out a grants program to better incorporate those and other advances as part of McGovern-Dole and Food for Peace title II programs. The report continues, that the Secretary is encouraged, through the authorities of the Research, Education, and Economics mission area, to conduct assessments of methods and tools used by non-governmental organizations and international agencies to assess nutritional gaps among populations served by U.S. humanitarian food assistance programs with recommendations on how to improve such programs in the field at the lowest possible cost. The Secretary should also undertake an assessment on the most cost-effective technologies for the purification and supply of safe water which could be implemented in the field to benefit these highly vulnerable populations and to make recommendations on the most cost-effective and commercially available systems that require priority research assistance.

Invitation To Comment

As one step in conducting the assessments on Improving Food Aid and Providing Safe Water, NIFA is soliciting input from interested stakeholders on the following questions. Comments received will be considered as the assessment reports are developed. NIFA will not endorse particular products or approaches, and will focus its assessments on the steps that are needed for improving existing methods and technologies, or for developing new methods and technologies.

Respondents may address as many of the following questions as they wish.

Assessing Nutritional Gaps

1. What methods and tools do non-governmental organizations and international agencies use to assess nutritional gaps in populations that are served by U.S. international food aid programs?

2. What are the strengths and weaknesses of those methods and tools?

3. How could such methods and tools be made more reliable, informative and cost-effective?

4. What additional laboratory or field-based research and development is needed to improve such methods and tools?

5. What innovations and/or studies could lead to significant future improvements in such methods and tools?

Assessing Safe Water Technologies

1. What are the most effective and cost-efficient, commercially available water purification and supply technologies for serving the safe water needs of vulnerable populations in developing countries?

2. What are the strengths and weaknesses of currently available water purification and supply technologies?

3. What improvements are needed to make currently available water purification and supply technologies more reliable and cost effective?

4. What additional laboratory or field-based research and development is needed to improve such technologies?

5. What significant innovations in water purification and supply technologies are underway?

Done at Washington, DC, on July 29, 2010.
Roger N. Beachy,
Director, National Institute of Food and Agriculture.

[FR Doc. 2010-19132 Filed 8-3-10; 8:45 am]

BILLING CODE 3410-22-P